DEPARTMENT OF HOUSING AND URBAN DEVELOPMENT

[Docket No. FR-5750-N-05]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)- 720-8873; Air Force: Ms. Connie Lotfi, Air Force Real Property Agency, 2261 Hughes Avenue, Suite 156, Lackland AFB, TX, 78236-9852, (210)-395-9512; Army: Ms. Veronica Rines, Office of the Assistant Chief of Staff for Installation Management, Department of Army, Room 5A128, 600 Army Pentagon, Washington, DC 20310, (571)- 256-8145; Energy: Mr. David Steinau, Department of Energy, Real Estate Division (MA-651), Office of Property Management, 1000 Independence Ave. SW., Washington, DC, 20585, (202)-287-1503; GSA: Mr. Flavio Peres, General Services Administration, Office of Real Property Utilization and Disposal, 1800 F Street NW., Room 7040 Washington, DC 20405, (202) 501-0084; Interior: Mr. Michael Wright, Acquisition & Property Management, Department of the Interior, MS-4262, 1849 C Street, Washington, DC, 20240, (202)-513-0795

Navy: Mr. Steve Matteo, Department of the Navy, Asset Management Division, Naval Facilities Engineering Command, Washington Navy Yard, 1330 Patterson Ave. SW., Suite 1000, Washington, DC 20374; (202)685-9426 (These are not a toll-free numbers).

Dated: January 23, 2014.
Mark Johnston,
Deputy Assistant Secretary for Special Needs.

TITLE V, FEDERAL SURPLUS PROPERTY PROGRAM FEDERAL REGISTER REPORT FOR 01/31/2014

SUITABLE/AVAILABLE PROPERTIES

BUILDING

Ohio

Glenn Research Center

6100 Columbus Ave.

Sandusky OH 44870

Landholding Agency: GSA

Property Number: 54201410002

Status: Excess

GSA Number: 1-Z-OH-0598-AB

Directions: Disposal Agency: GSA; Landholding Agency: NASA

Comments: 6,424 sq. ft.; 20+ months vacant; repairs needed; contact GSA for more info.

Wyoming

Quarters 96

Grand Teton National Park

Moran WY 83013

Landholding Agency: Interior

Property Number: 61201410001

Status: Excess

Comments: Off-site removal only; foundation damage/cracks; repairs required for use; contamination; contact Interior for more information.

UNSUITABLE PROPERTIES

BUILDING

Arkansas

Tract 12-111- Sundberg, Kenneth

House

100 Granger Drive

Hot Springs AR 71901

Landholding Agency: Interior

Property Number: 61201410002

Status: Excess

Comments: Documented deficiencies; structurally unsound; in collapsed condition; not movable; attempt to relocate will result in complete collapse.

Reasons: Extensive deterioration

California

1453-Banning Barracks

10045 Gilman Rd.

Banning CA 92220

Landholding Agency: Agriculture

Property Number: 15201410001

Status: Excess

Comments: Landlocked; can only be reached by crossing private property and there is no established right or means of entry

Reasons: Not accessible by road

Idaho

CFA-690 (Applied Science Lab)

1955 N. Fremont Ave.

Idaho Falls ID 83415

Landholding Agency: Energy

Property Number: 41201410001

Status: Unutilized

Comments: Public access denied and no alternative method to gain access w/out compromising national security

Reasons: Secured Area

CFA-689 (Technical Center)

1955 N. Fremont Ave.

Idaho Falls ID 83415

Landholding Agency: Energy

Property Number: 41201410002

Status: Unutilized

Comments: Public access denied and no alternative method to gain access w/out compromising national security

Reasons: Secured Area

CFA-688

(Technical Service Center)

1955 N. Fremont Ave.

Idaho Falls ID 83415

Landholding Agency: Energy

Property Number: 41201410003

Status: Unutilized

Comments: Public access denied and no alternative method to gain access w/out compromising national security

Reasons: Secured Area

CFA-632

(Storage Building)

1955 N. Fremont Ave.

Idaho Falls ID 83415

Landholding Agency: Energy

Property Number: 41201410004

Status: Unutilized

Comments: Public access denied and no alternative method to gain access w/out compromising national security

Reasons: Secured Area

CFA-607

(Office Building)

1955 N. Fremont Ave.

Idaho Falls ID 83415

Landholding Agency: Energy

Property Number: 41201410005

Status: Unutilized

Comments: Public access denied and no alternative method to gain access w/out compromising national security

Reasons: Secured Area

Mississippi

USDA Monitoring and Residue An

3505 25th Avenue

Gulfport MS 39501

Landholding Agency: GSA

Property Number: 54201410001

Status: Surplus

GSA Number: 4-A-MS-0571-AA

Directions: Disposal Agency: GSA; land holding Agency: Agriculture; 13 bldgs.

Comments: Two bldgs. adjacent to property (i.e., Coca-Cola & GCP laboratories, Inc. (pharmaceutical co.) houses a variety of flammable ingredients used for the soft drink bottling and pharmaceutical manufacturing.

Reasons: Within 2000 ft. of flammable or explosive material

Tennessee

4 Buildings

Milan AAP

Milan TN 38358

Landholding Agency: Army

Property Number: 21201340035

Status: Excess

Directions: I0205; I0206; I0207; T0114

Comments: Public access denied & no alternative method to gain access without compromising National Security.

Reasons: Secured Area

LAND

Nevada

Parcel I

Nellis AFB

Nellis NV

Landholding Agency: Air Force

Property Number: 18201410001

Status: Underutilized

Comments: Public access denied and no alternative method to gain access w/out compromising national security

Reasons: Secured Area

Virginia

Vacant Land, Joint Expeditionary

Base Little Creek Fort Story

Located Next to Building 3850

Virginia Beach VA 23459

Landholding Agency: Navy

Property Number: 77201410001

Status: Unutilized

Comments: Public access denied and no alternative method to gain access without compromising national security.

Reasons: Secured Area

[FR Doc. 2014-01739 Filed 1-30-14; 8:45 am]

BILLING CODE 4210-67-P